DEPARTMENT OF ENERGY

Federal Energy Regulatory Commission

[Docket No. RP02-388-000]

Dominion Transmission Inc.; Notice of Proposed Changes in FERC Gas Tariff

July 17, 2002.

Take notice that on July 11, 2002, Dominion Transmission Inc. (DTI) tendered for filing as part of its FERC Gas Tariff, Third Revised Volume No. 1, the following revised tariff sheets to be effective August 10, 2002:

Twelfth Revised Sheet No. 31

Fifteenth Revised Sheet No. 32

Ninth Revised Sheet No. 33

Tenth Revised Sheet No. 35

Third Revised Sheet No. 1113

Second Revised Sheet No. 1114

Second Revised Sheet No. 1125

DTI states that the proposed revised sheets will enable customers to more easily determine the rates applicable to DTI's pipeline services. The filing makes cosmetic changes to DTI's gas pipeline tariff and corresponding changes to verbiage in DTI's General Terms and Conditions of Service—no substantive change to DTI's rates or services is made.

DTI states that a copy of DTI's filing has been served upon all of DTI's customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-18550 Filed 7-22-02; 8:45 am]

BILLING CODE 6717-01-P